DEPARTMENT OF ENERGY

Federal Energy Regulatory Commission

[Docket No. RP00-308-001]

ANR Pipeline Company; Notice of Proposed Change in FERC Gas Tariff

June 9, 2000.

Take notice that, on June 5, 2000, ANR Pipeline Company (ANR) tendered for filing as part of its FERC Gas Tariff, Second Revised Volume No. 1, the following revised tariff sheet to be effective July 1, 1000:

Substitute Third Revised Sheet No. 45E.1

ANR states that this filing is made to correct a clerical error incorrectly identifying the location of the Napoleon Interconnect, Henry County, Ohio as the Southeast Central Segment instead of the Northern Segment on the tariff sheet previously submitted on May 31, 2000 in Docket No. RP00-308-000.

ANR states that copies of the filing have been mailed to all affected customers and state regulatory commissions.

Any person desiring to protest this filing should file a protest with the Federal Energy Regulatory Commission, 888 First Street, N.E., Washington, DC 20426, in accordance with section 385.211 of the Commission's Rules and Regulations. All such protests must be filed as provided in section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Linwood A. Watson, Jr.,
Acting Secretary.

[FR Doc. 00-15098 Filed 6-14-00; 8:45 am]

BILLING CODE 6717-01-M